DEPARTMENT OF THE INTERIOR

Bureau of Indian Affairs

Renewal of Agency Information Collection for Reindeer in Alaska; Request for Comments

AGENCY: Bureau of Indian Affairs, Interior.

ACTION: Notice of request for comments.

SUMMARY: In compliance with the Paperwork Reduction Act of 1995, the Bureau of Indian Affairs (BIA) is seeking comments on renewal of Office of Management and Budget (OMB) approval for the collection of information for Reindeer in Alaska. The information collection is currently authorized by OMB Control Number 1076-0047, which expires March 30, 2012.

DATES: Interested persons are invited to submit comments on or before January 17, 2012.

ADDRESSES: You may submit comments on the information collection to Keith Kahklen, Natural Resources Manager, Bureau of Indian Affairs, P.O. Box 25520 [3rd Floor Federal Building], Juneau, Alaska 99802-5520; Email Keith.Kahklen@bia.gov; Telephone (907) 586-7618 and Facsimile (907) 586-7120.

FOR FURTHER INFORMATION CONTACT: Keith Kahklen, (907) 586-7618.

SUPPLEMENTARY INFORMATION:

I. Abstract

The BIA is seeking renewal of the approval for the information collection conducted under 25 CFR part 243, Reindeer in Alaska, which is used to monitor and regulate the possession and use of Alaskan reindeer by non-Natives in Alaska. The information to be provided includes an applicant's name and address, and where an applicant will keep reindeer. The applicant must fill out an application for a permit to get a reindeer for any purpose, and is required to report on the status of reindeer annually or when a change occurs, including changes prior to the date of the annual report.

II. Request for Comments

The BIA requests that you send your comments on this collection to the location listed in the ADDRESSES section. Your comments should address: (a) The necessity of the information collection for the proper performance of the agency's duties, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires March 30, 2012.

It is our policy to make all comments available to the public for review at the location listed in the ADDRESSES section during the hours of 9 a.m.-5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0047.

Title: Reindeer in Alaska.

Brief Description of Collection: The two forms associated with this information collection, Sale Permit for Alaska Reindeer, and Special Use Permit, require information to be provided to obtain or retain a benefit, namely, a permit to obtain a reindeer, but without such information no permit shall be issued.

Type: Extension without change of a currently approved collection.

Respondents: Non-Natives who wish to possess Alaskan reindeer.

Number of Respondents: 10 per year, on average.

Frequency of Response: Once a year.

Estimated Time per Response: 10 minutes, on average.

Estimated Total Annual Burden: 2 hours.

Dated: November 10, 2011.
Alvin Foster,
Assistant Director for Information Resources.

[FR Doc. 2011-29867 Filed 11-17-11; 8:45 am]

BILLING CODE 4310-4J-P